FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's website (www.fmc.gov) or by contacting the Office of Agreements at (202)-523-5793 or tradeanalysis@fmc.gov.

Agreement No.: 201248.

Title: COSCO SHIPPING/PIL/WHL/CMA CGM Vessel Sharing and Slot Exchange Agreement.

Parties: CMA CGM S.A.; COSCO Shipping Co., Ltd.; Pacific International Lines (PTE) Ltd.; Wan Hai Lines (Singapore) Pte. Ltd.; and Wan Hai Lines Ltd.

Filing Party: Eric Jeffrey; Nixon Peabody LLP; 799 9th Street NW, Suite 500; Washington, DC 20001.

Synopsis: The Agreement authorizes the Parties to operate a joint service and to exchange slots between that joint service and a service operated by CMA CGM in the trade between ports in China (including Hong Kong) and ports on the United States West Coast.

Agreement No.: 201249.

Title: Port of Los Angeles Data Delivery Agreement.

Parties: City of Los Angeles; APM Terminals Pacific Ltd.; Eagle Marine Services, Ltd.; Everport Terminal Services Inc.; TraPac Inc., West Basin Container Terminal LLC; and Yusen Terminals LLC.

Filing Party: David Smith & Jeff Vogel; Cozen O'Connor; 1200 19th Street NW, Washington, DC 20036.

Synopsis: The Agreement authorizes the parties to collect and deliver data with respect to trucks moving through Port of Los Angeles terminals to ensure compliance with the Port's Clean Truck Program. The Agreement also governs the maintenance of, and access to, the Drayage Truck registry, which contains information on whether trucks meet the Port's criteria for terminal access under its Clean Truck Program.

Dated: April 30, 2018.
Rachel E. Dickon,
Secretary.

[FR Doc. 2018-09365 Filed 5-2-18; 8:45 am]

BILLING CODE 6731-AA-P